DEPARTMENT OF ENERGY

Federal Energy Regulatory Commission

[Docket No. RM02-16-000]

Integrated Licensing Process Outreach; Notice of Public Outreach Meetings on the Intergrated Licensing Process

September 30, 2003.

Commission staff from the Office of Energy Projects will hold three public Outreach Meetings on the new Integrated Licensing Process at the locations and times listed below. The purpose of the Outreach program is to familiarize federal, state, and other government agencies, Indian tribes, nongovernmental organizations, licensees, and other interested parties with the new Integrated Licensing Process set forth by Order Number 2002, issued on July 23, 2003.

Location, Date and Time

Doubletree Seattle Airport, 187450 Pacific Highway South Seattle, WA 98188, 206-246-8600.

October 27, 2003

8:30 a.m. to 12:30 p.m.

Red Lion Hotel, 1401 Arden Way, Sacramento, CA 95815, 916-922-8041,

October 29, 2003

8:30 to 12:30 p.m.

Crown Plaza Hotel, State & Lodge Albany, NY 12207, 518-462-6611

November 5, 2003

8:30 to 12:30 p.m.

All interested parties are invited to attend. If you plan to attend, please notify Ken Hogan, fax: 202-219-0205; telephone: 202-502-8434 or David Turner (202) 502-6091. This meeting is posted on the Commission's calendar located at http://www.ferc.gov/EventCalendar/EventsList.aspx along with other related information.

Magalie R. Salas,
Secretary.

[FR Doc. 03-25451 Filed 10-3-03; 8:45 a.m.]

BILLING CODE 6717-01